DEPARTMENT OF HEALTH AND HUMAN SERVICES

National Institutes of Health

Center for Scientific Review; Amended Notice of Meeting

Notice is hereby given of a change in the meeting of the Center for Scientific Review Special Emphasis Panel, May 1, 2001, 1 PM to May 1, 2001, 3 PM, NIH, Rockledge 2, Bethesda, MD, 20892 which was published in the Federal Register on April 13, 2001, 66 FR 19183.

The meeting will now start at 1:30 PM and end at 3 PM. The date and location remains the same. The meeting is closed to the public.

LaVerne Y. Stringfield,
Director, Office of Federal Advisory Committee Policy.

[FR Doc. 01-10931 Filed 5-1-01; 8:45 am]

BILLING CODE 4140-01-M